DEPARTMENT OF AGRICULTURE

Rural Utilities Service

Alabama Electric Cooperative; Notice of Finding of No Significant Impact

AGENCY: Rural Utilities Service, USDA.

ACTION: Notice of finding of no significant impact.

SUMMARY: Notice is hereby given that the Rural Utilities Service (RUS) has made a finding of no significant impact (FONSI) with respect to a request from Alabama Electric Cooperative for financing assistance to finance the construction of the a 496 megawatt combined cycle electric generation plant in Covington County, Alabama.

FOR FURTHER INFORMATION CONTACT: Bob Quigel, Environmental Protection Specialist, Engineering and Environmental Staff, RUS, Stop 1571, 1400 Independence Avenue, SW, Washington, DC 20250-1571, telephone (202) 720-0468, e-mail at bquigel@rus.usda.gov.

SUPPLEMENTARY INFORMATION: The proposed plant will be constructed on a site adjacent to the existing Alabama Electric Cooperative's McWilliams Plant located near Gantt in Covington County, Alabama. It will be made up of two combustion turbines which have the potential to generate 166 megawatts each. The exhaust gas from each combustion turbine will be fed to a heat recovery steam generator. The output from each heat recovery steam generator will be fed to a single steam turbine that has the potential to generate 164 megawatts. Each heat recover steam generator will incorporate a selective catalytic reduction system to remove nitrogen oxides from the combustion turbine's exhaust gas. The combustion turbines units will be shop-built and shipped to the site as modules that will be installed on steel-reinforced concrete foundations. Related improvements will include the construction of a new electric transmission station and an 18.6-mile, 230 kV transmission line circuit between the Gantt Plant and the Opp Switching Station. The Southeast Alabama Gas District will construct a 60-mile-long, 20-inch diameter natural gas pipeline from Flomaton, Alabama, to the Gantt site to provide the natural gas to power the plant. RUS will not provide financing assistance for the natural gas pipeline.

Based on its environmental assessment of the project, RUS has concluded that the construction and operation of the 496 megawatt plant at the Gantt site would have no significant impact to the quality of the human environment. Therefore, RUS will not prepare an environmental impact statement for its action related to this project.

Copies of the FONSI are available from RUS at the address provided herein or from Mike Noel, Alabama Electric Cooperative, P.O. Box 550, Andalusia, Alabama 36420-0550, telephone (334) 427-3248. Mike's e-mail address is: mike.noel@powersouth.com.

Dated: January 31, 2000.
Blaine D. Stockton, Jr.,
Assistant Administrator, Electric Program.

[FR Doc. 00-2692 Filed 2-4-00; 8:45 am]

BILLING CODE 3410-15-P